DEPARTMENT OF COMMERCE

National Oceanic and Atmospheric Administration

RIN 0648-BA53

Fisheries of the Caribbean, Gulf of Mexico, and South Atlantic; Amendment 22 to the Fishery Management Plan for Snapper-Grouper Resources of the South Atlantic

AGENCY: National Marine Fisheries Service (NMFS), National Oceanic and Atmospheric Administration (NOAA), Commerce.

ACTION: Notice of Intent (NOI) to prepare an environmental impact statement (EIS); notice of scoping meetings; request for comments.

SUMMARY: NMFS, Southeast Region, in collaboration with the South Atlantic Fishery Management Council (Council), intends to prepare an EIS to describe and analyze a range of alternatives for management actions to be included in an amendment to the Fishery Management Plan for the Snapper-Grouper Fishery of the South Atlantic Region (FMP). These alternatives will consider measures to establish a long-term red snapper fishery management program in the South Atlantic to optimize yield and rebuild the stock, while minimizing socioeconomic impacts. More specifically, these alternatives will consider the elimination of harvest restrictions on red snapper as the stock increases in biomass. The purpose of this NOI is to solicit public comments on the scope of issues to be addressed in the EIS.

DATES: Written comments on the scope of issues to be addressed in the EIS will be accepted from January 12 to February 14, 5 p.m., eastern time.

ADDRESSES: You may submit comments, identified by RIN 0648-BA53, by any one of the following methods:

• Electronic Submissions: Submit all electronic public comments via the Federal e-Rulemaking Portal http://www.regulations.gov.

• Mail: Rick DeVictor, Southeast Regional Office, NMFS, 263 13th Avenue South, St. Petersburg, FL 33701.

Instructions: No comments will be posted for public viewing until after the comment period is over. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2010-0264” in the keyword search, then select “Send a Comment or Submission”. NMFS will accept anonymous comments (enter N/A in the required fields if you wish to remain anonymous). You may submit attachments to electronic comments in Microsoft Word, Excel, WordPerfect, or Adobe PDF file formats only.

FOR FURTHER INFORMATION CONTACT: Kim Iverson; phone: (843) 571-4366.

SUPPLEMENTARY INFORMATION: The red snapper stock in the South Atlantic was assessed through the Southeast, Data, Assessment, and Review (SEDAR) process in 2008 and 2010. The assessments indicate that the stock is experiencing overfishing and is overfished. Overfishing is a condition when fishing pressure is beyond the allowable level. Overfishing may lead to an overfished condition. A stock is overfished when the biomass is below an identified minimum stock size threshold. Due to low biomass levels, an overfished stock has increased vulnerability to environmental variables and cannot produce the Maximum Sustainable Yield.

As a result of the 2008 assessment, fishing for red snapper was prohibited temporarily through an interim rule from January 4, 2010, to December 5, 2010, to enable the Council to develop measures to end overfishing in Amendment 17A to the Fishery Management Plan for the Snapper-Grouper Fishery of the South Atlantic region (Amendment 17A). Prior regulations included a recreational bag limit of 2 fish per person per day and a 20 inch total length minimum size limit for both commercial and recreational fishermen. Amendment 17A was submitted to the Secretary of Commerce on July 20, 2010, and approved on October 27, 2010. Measures in Amendment 17A included the continuation of the red snapper closure harvest prohibition established through the interim rule.

NMFS, in collaboration with the Council, is considering alternatives to eliminate harvest restrictions on red snapper as the stock increases in biomass. Examples of measures under consideration include the implementation of red snapper trip limits, bag limits, a catch share program, tag program, temporal and spatial closures including those to protect spawning stocks, and gear prohibitions. These preliminary measures may not represent the full range of alternatives that eventually will be evaluated in the EIS.

NMFS, in collaboration with the Council, will develop an EIS to describe and analyze alternatives to address the management needs described above. Those alternatives will include a “no action” alternative for each action.

In accordance with NOAA's Administrative Order 216-6, Section 5.02(c), Scoping Process, NMFS, in collaboration with the Council, has identified preliminary environmental issues as a means to initiate discussion for scoping purposes only. These preliminary issues may not represent the full range of issues that eventually will be evaluated in the EIS.

Copies of an information packet will be available from NMFS (see ADDRESSES).

Following publication of this NOI, the Council will conduct public scoping meetings to determine the range of issues to be addressed in the draft EIS (DEIS) and the associated Amendment 22. After the DEIS associated with Amendment 22 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 3 p.m. In addition to Amendment 22, the Council intends to scope additional amendments at this series of meetings. Separate NOIs will be prepared for each amendment. The meetings will be physically accessible to people with disabilities. Requests for information packets or for sign language interpretation or other auxiliary aids should be directed to the Council (see FOR FURTHER INFORMATION CONTACT).

Monday, January 24, 2011—Hilton New Bern/Riverfront, 100 Middle Street, New Bern, NC 28560; phone 252-638-3585.

Wednesday, January 26, 2011—Crowne Plaza Charleston Airport, 4831 Tanger Outlet Boulevard, North Charleston, SC 29418; phone 843-744-4422.

Thursday, January 27, 2011—Mighty Eighth Air Force Museum, 175 Bourne Avenue, Pooler, GA 31322; phone 912-748-8888.

Monday, January 31, 2011—Jacksonville Marriott, 4670 Salisbury Road, Jacksonville, FL 32256; phone 904-296-2222.

Tuesday, February 1, 2011—International Palms Resort, 1300 N. Atlantic Avenue, Cocoa Beach, FL 32931; phone 321-783-2271.

Thursday, February 3, 2011—Key Largo Grande Resort, 97000 Overseas Resort, Key Largo, FL 33037; phone 305-852-5553.

Authority: 16 U.S.C. 1801 et seq.

Dated: December 28, 2010.
Emily H. Menashes,
Acting Director, Office of Sustainable Fisheries, National Marine Fisheries Service.

[FR Doc. 2010-33100 Filed 12-30-10; 8:45 am]

BILLING CODE 3210-22-P